NATIONAL SCIENCE FOUNDATION

Advisory Committee for Mathematical and Physical Sciences; Notice of Meeting

In accordance with the Federal Advisory Committee Act (Pub. L. 92-463, as amended), the National Science Foundation announces the following meeting:

NAME: Advisory Committee for Mathematical and Physical Sciences (#66).

DATE/TIME: November 17, 2016; 8:30 a.m.-5:00 p.m.

November 18, 2016; 8:30 a.m.-12:00 p.m.

PLACE: National Science Foundation 4201 Wilson Blvd., Arlington, VA 22230. Board Room (room 1235); visitors should request a visitor's badge as instructed on the meeting Web site: http://www.nsf.gov/events/event_summ.jsp?cntn_id=136042&org=MPS.

TYPE OF MEETING: Open.

CONTACT PERSON: John Gillaspy, National Science Foundation, 4201 Wilson Boulevard, Suite 1005, Arlington, Virginia 22230; Telephone: 703/292-8300.

PURPOSE OF MEETING: To provide advice, recommendations and counsel on major goals and policies pertaining to mathematical and physical sciences programs and activities.

AGENDA

Thursday, November 17, 2016

8:30 a.m.-8:45 a.m. Meeting opening, FACA briefing and approval of meeting minutes

8:45 a.m.-10:000 a.m. Science Hors D'Oeuvre and MPS updates

10:00 a.m.-10:15 a.m. Break

10:15 a.m.-1:30 p.m. NSF Big Ideas

1:30 p.m.-2:30 p.m. Division of Mathematical Sciences Committee of Visitors report

2:30 p.m.-3:15 p.m. NSF Merit Review Process

3:15 p.m.-3:30 p.m. Break

3:30 p.m.-4:15 p.m. NSF Strategic Review Planning

4:15 p.m.-5:30 p.m. Preparation for meeting with the NSF Chief Operating Officer

Friday, November 18th, 2016

8:30 a.m.-8:45 a.m. Meeting opening

8:45 a.m.-9:45 a.m. Robust and Reliable Sciences

9:45 a.m.-10:00 a.m. Break

10:00 a.m.-11:00 a.m. Meeting with NSF Chief Operating Officer

11:00 a.m.-12:00 p.m. General Comments and Discussions

12:00 p.m. Adjourn

Dated: October 3, 2016.
Crystal Robinson,
Committee Management Officer.

[FR Doc. 2016-24176 Filed 10-5-16; 8:45 am]

BILLING CODE 7555-01-P